DEPARTMENT OF HEALTH AND HUMAN SERVICES

Agency for Healthcare Research and Quality

Meeting of a Subcommittee of the National Advisory Council for Healthcare Research and Quality

AGENCY: Agency for Healthcare Research and Quality (AHRQ), HHS.

ACTION: Notice of public meeting.

SUMMARY: In accordance with section 10(a) of the Federal Advisory Committee Act, 5 U.S.C. App. 2, this notice announces a meeting of a Subcommittee of the National Advisory Council for Healthcare Research and Quality.

DATES: The meeting will be held on Monday, October 18th from 10 a.m. to 6 p.m., and Tuesday, October from 9 a.m. to 3 p.m.

ADDRESSES: The meeting will be held at the Westin Washington DC City Center, 1400 M Street, NW., Washington, DC.

FOR FURTHER INFORMATION CONTACT: Nancy Wilson, MD MPH, Coordinator of the Advisory Council Subcommittee, at the Agency for Healthcare Research and Quality, 540 Gaither Road, Rockville, Maryland, 20850, (301) 427-1310. For press-related information, please contact Karen Migdail at (301) 427-1855.

If sign language interpretation or other reasonable accommodation for a disability is needed, please contact the Food and Drug Administration (FDA) Office of Equal Employment Opportunity and Diversity Management on (301) 827-4840, no later than October 11 2010. The agenda, roster, and minutes will be available from Dr. Nancy Wilson.

SUPPLEMENTARY INFORMATION:

I. Purpose of the Sub-Committee

The purpose of the Sub-Committee is to advise AHRQ and the Centers for Medicare Medicaid Services (CMS) about measures that could be used to monitor the quality of care for Medicaid eligible adults.

Section 2701 of the Affordable Care Act (ACA) requires the Secretary of Health and Human Services to identify and publish a recommended core set of adult health quality measures for Medicaid eligible adults. ACA also requires the Secretary, in consultation with States, to develop a standardized format for reporting information and to develop procedures that encourage voluntary reporting based on the initial core set of measures. The Secretary is also required to establish a Medicaid Quality Measurement Program that will fund the development, testing, and validation of emerging and innovative evidence-based measures and to subsequently publish recommended changes to the initial core measure set. Not later than September 30, 2014 and annually thereafter the Secretary is required to collect, analyze, and make publically available the information reported by the States.

AHRQ is working collaboratively with CMS to identify and publish for public comment an initial preliminary core set of measures by January 1, 2011. The initial core set of measures must then be finalized by January 1, 2012.

The purpose of the National Advisory Council Sub-Committee is to: (a) Evaluate measures on importance, validity, and feasibility for use by Medicaid programs (b) apply criteria to identify compilations of measures that could be selected for the initial core measurement set. The Sub-Committee membership will reflect expertise in healthcare quality measurement, healthcare disparities, and in the populations eligible for Medicaid. Elizabeth McGlynn, PhD, Associate Director for RAND Health, and Foster Gesten, M.D., Medical Director of Office of Insurance Programs for New York, have agreed to co-chair the Sub-Committee.

II. Purpose of the National Advisory Council

The National Advisory Council for Healthcare Research and Quality was established in accordance with Section 921 (now Section 941) of the Public Health Service Act, 42 U.S.C. 299c. In accordance with its statutory mandate, the Council is to advise the Secretary of the Department of Health and Human Services and the Director, Agency for Healthcare Research and Quality (AHRQ), on matters related to AHRQ's conduct of its mission including providing guidance on (A) priorities for health care research, (B) the field of health care research including training needs and information dissemination on health care quality and (C) the role of the Agency in light of private sector activity and opportunities for public private partnerships.

Role of the National Advisory Council

The National Advisory Council for Healthcare Research arid Quality was established in accordance with Section 921 (now Section 941) of the Public Health Service Act, 42 U.S.C. 299c. In accordance with its statutory mandate, the Council is to advise the Secretary of the Department of Health and Human Services and the Director, Agency for Healthcare Research and Quality (AHRQ), on matters related to AHRQ's conduct of its mission including providing guidance on (A) priorities for health care research, (B) the field of health care research including training needs and information dissemination on health care quality and (C) the role of the Agency in light of private sector activity and opportunities for public private partnerships.

The Council is composed of members of the public, appointed by the Secretary, and Federal ex-officio members specified in the authorizing legislation.

III. Agenda

The final agenda will be available on the AHRQ Web site at www.AHRQ.gov no later than October 12, 2010.

This notice is published less than 15 days in advance of the meeting date due to logistical difficulties.

Dated: September 30, 2010.
Carolyn M. Clancy,
Director.

[FR Doc. 2010-25224 Filed 10-8-10; 8:45 am]

BILLING CODE 4160-90-M